DEPARTMENT OF HEALTH AND HUMAN SERVICES

Office of the Secretary

Revised Privacy Act System of Records

AGENCY: Office of the Secretary, HHS.

ACTION: Notice of a revised Privacy Act system of records.

SUMMARY: The Department of Health and Human Services (HHS) is publishing a notice of a revised system of records, 09-90-0024, “Unified Financial Management System, HHS/OS” which was published in the Federal Register on September 7, 1999. The revised notice changes the system name from “09-90-0024, Financial Transactions of HHS Accounting and Finance Offices” to “09-90-0024, Unified Financial Management System” to meet the needs of the newly-established Unified Financial Management System (UFMS), and update Agency information.

DATES: The revised system notice is effective 30 days after the date of publication, unless HHS receives comments which would result in a contrary determination.

ADDRESSES: Mail public comments to Ms. Dara Murray, Chief Information Security Officer, Program Support Center, 5600 Fishers Lane, Room 17A30, Rockville, MD 20857. Telephone 301-443-0881. This is not a toll-free number. Comments will be available for public inspection and copying at the above location.

FOR FURTHER INFORMATION CONTACT: Chief Information Security Officer, Program Support Center, 5600 Fishers Lane, Room 17A30, Rockville, MD 20857, (301) 443-0881.

Dated: June 10, 2005.
Kerry Weems,
Principal Deputy Assistant Secretary, for Budget, Technology and Finance, Office of the Secretary.

09-90-0024

System name:

Unified Financial Management System, HHS/OS.

Security classification:

None.

System location:

See Appendix 1.

Memoranda copies of claims submitted for reimbursement of travel and other expenditures while on official business may also be maintained at the administrative and/or program office of the HHS employee. Records concerning outstanding debts may also be maintained at the program office or by the designated claims officer apart from the finance office.

Categories of individuals covered by the system:

All persons who receive a payment from the Operating Divisions (OPDIV) Headquarters, Area and District offices, and all persons owing monies to these HHS components. Persons receiving payments include, but are not limited to travelers on official business, grantees, contractors, consultants, Fellows and recipients of loans and scholarships, and also employee reimbursement for training classes, mass transit, and other appropriate costs. Persons owing monies include, but are not limited to, persons who have been overpaid and who owe HHS a refund and persons who have received from HHS goods or services for which there is a charge or fee (e.g., Freedom of Information Act requesters).

Categories of records in the system:

Name, identification number/Social Security Number (SSN) or EIN/TID, address, e-mail address, phone number, purpose of payment or request for payment bank account and routing numbers, accounting classification and the amount paid of billed. Also, in the event of an overpayment and for outstanding charges, fees, loans, grants or scholarships, the amount of the indebtedness, the repayment status and the amount to be collected.

Authority for maintenance of the system:

Budget and Accounting Act of 1950 (Pub. L. 81-784); Debt Collection Act of 1982 (Pub. L. 97-365); Debt Collection Improvement Act of 1996 (Pub. L. 104-134, sec. 31001).

Purpose(s): These records are an integral part of the accounting systems at OPDIVs Headquarters and specific Area and District locations. The records are used to keep track of all payments to individuals, exclusive of salaries and wages, based upon prior entry into the systems of the official commitment and obligation of government funds. When a person is to repay funds advanced as a loan or scholarship, etc., the records will be used to establish a receivable record and to track repayment status. In the event of an overpayment to a person, the record is used to establish a receivable record for recovery of the amount claimed. The records are also used internally to develop reports to the Internal Revenue Service (IRS) and applicable State and local taxing officials of taxable income. This is a Department-wide notice of payment and collection activities at all locations listed in Appendix 1.

Routine uses of records maintained in the system, including categories of users and the purposes of such uses:

1. Records will be routinely disclosed to the Treasury Department in order to effect payment.

2. Records may be disclosed to members of Congress concerning a Federal financial assistance program in order for members to make informed opinions on programs and/or activities impacting on legislative decisions. Also, disclosure may be made to a congressional office from an individual's record in response to an inquiry from the congressional office made at the request of the individual in order to be responsive to the constituency.

3. In the event HHS deems it desirable or necessary, in determining whether particular records are required to be disclosed under the Freedom of Information Act, disclosure may be made to the Department of Justice for the purpose of obtaining its advice.

4. A record from this system may be disclosed as a “routine use” to a Federal, State or local agency maintaining civil, criminal or other relevant enforcement records or other pertinent records, such as current licenses, if necessary to obtain a record relevant to an agency decision concerning the hiring or retention of an employee, the issuance of a security clearance, the letting of a contract or the issuance of a license, grant or other benefit.

5. A record from this system may be disclosed to a Federal agency, in response to its request, in connection with the hiring or retention of an employee, the issuance of a security clearance, the reporting of an investigation of an employee, the letting of a contract or the issuance of a license, grant or other benefit by the requesting agency, to the extent that the record is relevant and necessary to its decision on the matter.

6. Where Federal agencies having the power to subpoena other Federal agencies' records, such as the Internal Revenue Service (IRS) or the Civil Rights Commission, issue a subpoena to HHS for records in this system of records, HHS will make such records available, provided however, that in each case, HHS determines that such disclosure is compatible with the purpose for which the records were collected.

7. Where a contract between a component of HHS and a labor organization recognized under E.O. 11491 provides that the agency will disclose personal records relevant to the organization's mission, records in the system of records may be disclosed to such organization.

8. A record may be disclosed to the Department of Justice, to a court, or other tribunal, or to another party before such tribunal, when: (1) HHS, or any component thereof; (2) Any HHS employee in his/her official capacity; (3) Any HHS employee in his/her individual capacity where the Department of Justice (or HHS, where it is authorized to do so) has agreed to represent the employee; or (4) the United States or any agency thereof where HHS determines that the litigation is likely to affect HHS or any of its components, is a party to litigation or has an interest in such litigation, and HHS determines that the use of such records by the Department of Justice, the tribunal, or the other party is relevant and necessary to the litigation and would help in the effective representation of the governmental party, provided however, that in each case, HHS determines that such disclosure is compatible with the purpose for which the records were collected.

9. A record about a loan applicant or potential contractor or grantee may be disclosed from the system of records to credit reporting agencies to obtain a credit report in order to determine the person's credit worthiness and ability to repay debts owed to the Federal Government.

10. When a person applies for a loan under a loan program as to which the OMB has made a determination under I.R.C. 6103(a)(3), a record about his/her application may be disclosed to the Treasury Department to find out whether he/she has a delinquent tax account, for the sole purpose of determining the person's creditworthiness.

11. A record from this system may be disclosed to the following entities in order to help collect a debt owed the United States:

a. To another Federal agency so that agency can effect a salary offset;

b. To the Treasury Department or another Federal agency in order to effect an administrative offset under common law or under 31 U.S.C. 3716 (withholding from money payable to, or held on behalf of, the individual);

c. To the Treasury Department to request the person's mailing address under I.R.C. 6103(m)(2) in order to help locate the person or to have a credit report prepared;

d. To agents of HHS and to other third parties, including credit reporting agencies, to help locate the person or to obtain a credit report on him/her, in order to help collect or compromise a debt;

e. To debt collection agents or contractors under 31 U.S.C. 3718 or under common law to help collect a past due amount or locate or recover debtors' assets;

f. To the Justice Department for litigation or for further administrative action; and

g. To the public, as provided by 31 U.S.C. 3720E, in order to publish or otherwise publicly disseminate information regarding the identity of the person and the existence of a nontax debt.

Disclosure under part (d) and (g) of this routine use is limited to the individual's name, address, social security number, and other information necessary to identify the person. Disclosure under parts (a)-(c) and (e) is limited to those items; the amount, status, and history of the claim; and the agency or program under which the claim arose. An address obtained from IRS may be disclosed to a credit reporting agency under part (d) only for purposes of preparing a credit report on the individual.

12. A record from this system may be disclosed to another Federal agency that has asked HHS to effect an administrative offset under common law or under 31 U.S.C. 3716 to help collect a debt owed the United States. Disclosure under this routine use is limited to: Name and address, Social Security number, and other information necessary to identify the individual; information about the money payable to or held for the individual; and other information concerning the administrative offset.

13. Disclosure with regard to claims or debts arising under or payable under the Social Security Act may be made from this system to “consumer reporting agencies” as defined in the Fair Credit Reporting Act (15 U.S.C. 1681a(f)) or the Federal Claims Collection Act of 1966 (31 U.S.C. 3701(a)(3)). The purpose of this disclosure is to aid in the collection of outstanding debts owed the Federal Government. Disclosure of records is limited to the individual's name, address, Social Security number, and other information necessary to establish the individual's identity; the amount, status and history of the claim; and the agency or program under which the claim arose.

14. Information in this system of records is used to prepare W-2s and 1099 Forms to submit to the Internal Revenue Service and applicable State and local governments items considered to be included as income to a person: certain travel-related payments to employees, all payments made to persons not treated as employees (e.g., fees to consultants and experts), and amounts written-off as legally or administratively uncollectible, in whole or in part.

15. A record may be disclosed to banks enrolled in the Treasury Credit Card Network to collect a payment or debt when the person has given his/her credit card number for this purpose.

16. Records may be disclosed to a contractor (and/or to its subcontractor) who has been engaged to perform services on an automated data processing (ADP) system used in processing financial transactions. The contractor may have been engaged to develop, modify and test a new ADP system, including both software and hardware upgrades or enhancements to such a system; perform periodic or major maintenance on an existing ADP system; audit or otherwise evaluate the performance of such an ADP system; and/or operate such a system.

17. Records may be disclosed to student volunteers, individuals working under a personal services contract, and other individuals performing functions for the Department but technically not having the status of agency employees, if they need access to the records in order to perform their assigned agency functions.

18. A record from this system may be disclosed to any Federal agency or its agents in order to participate in a computer matching of a list of debtors against a list of Federal employees. Disclosure of records is limited to debtors' names, names of employers, taxpayers identifying numbers, addresses (including addresses of employers), and dates of birth, and other information necessary to establish the person's identity.

19. A record may be disclosed to a commercial reporting agency that a person is responsible for a current claim, in order to aid in the collection of claims, typically by providing an incentive to the person to repay the claim or a debt timely. Disclosure of records is limited to information about a person as is relevant and necessary to meet the principal purpose(s) for which it is intended to be used under the law.

20. A record from this system may be disclosed to the Treasury Department or to an agency operating a Debt Collection Center designated by the Treasury in order to effect a collection of past due amounts.

21. If HHS decides to sell a debt pursuant to 31 U.S.C. 3711(I), a record from the system may be disclosed to purchasers, potential purchasers, and contractors engaged to assist in the sale or to obtain information necessary for potential purchasers to formulate bids and information necessary for purchasers to pursue collection remedies.

22. If HHS decides to administratively garnish wages of a delinquent debtor under the wage garnishment provision in 31 U.S.C. 3720D, a record from the system may be disclosed to the debtor's employer. This disclosure will take the form of a wage garnishment order directing that the employer pay a portion of the employee/debtor's wages to the Federal Government. Disclosure of records is limited to debtor's name, address, and social security number. Also a record from this system may be disclosed to other systems, Federal agencies or its agents in order to participate in a computer matching of a list of debtors against a list of Federal employees.

Disclosure to consumer reporting agencies:

Disclosure pursuant to 5 U.S.C. 552a(b)(12): Disclosure may be made from this system to “consumer reporting agencies,” as defined in 31 U.S.C. 3701(a)(3). The purpose of this disclosure is to aid in the collection of outstanding debts owed to the Federal Government, typically, to provide an incentive for debtors to repay their debts timely, by making these debts part of their credit records. Disclosure of records is limited to the individual's name, address, social security number, and other information necessary to establish the individual's identity; the amount, status and history of the claim; and the agency or program under which the claim arose. The disclosure will be made only after the procedural requirements of 31 U.S.C. 3711(e) have been followed. Policies and practices for storing, retrieving, accessing, retaining, and disposing of records in the system:

Storage:

Hard copy documents are maintained in file folders at agency headquarters and area/district office sites; and on computer disc pack and magnetic tape at central computer sites. Hard copy documents and automated records will both be maintained in accordance with Chapter 45-13 of the HHS General Administration Manual, “Safeguarding Records Contained in Systems of Records”, and the “HHS Automated Information System Security Program Handbook.”

Retrievability:

This varies according to the particular accounting system within the HHS Operating Divisions, Area and District Offices. Usually the hard copy document is filed by name within accounting classification. Computer records may be indexed by social security number and voucher number. Intra-departmental uses and transfers concern the validation and certification for payment, and for HHS internal audits.

Safeguards:

1. Authorized Users: Employees and officials directly responsible for programmatic or fiscal activity, including administrative and staff personnel, financial management personnel, computer personnel, and managers who have responsibilities for implementing HHS funded programs.

2. Physical Safeguards: File folders, reports and other forms of personnel data, and electronic diskettes are stored in areas where fire and life safety codes are strictly enforced. All documents and diskettes are protected during lunch hours and nonworking hours in locked file cabinets or locked storage areas. Magnetic tapes and computer matching tapes are locked in a computer room and tape vault.

3. Procedural Safeguards: Password protection of automated records is provided. All authorized users protect information from public view and from unauthorized personnel entering an office. The safeguards described above were established in accordance with HHS Chapter 45-13 of the General Administration Manual; and the HHS ADP System Manual Part 6, “ADP Systems Security.”

Retention and disposal:

Records are purged from automated files once the accounting purpose has been served; printed copy and manual documents are retained and disposed of in accordance with Government Accountability Office principles and standards as authorized by the National Archives and Records Administration.

System manager(s) and address:

Department of Health and Human Services, DHHS, Assistant Secretary for Budget, Technology and Finance, Office of the Secretary, Room 510A, Hubert H. Humphrey Building, Washington, DC 20201.

Notification procedure:

Inquiries should be made, either in writing or in person, to the organizations listed under “Location” in Appendix 1, with the exception of Food and Drug Administration records. For those records contact: FDA Privacy Act Coordinator (HFI-30), Food and Drug Administration, 5600 Fishers Lane, Rockville, MD 20857. The individual making the inquiry must show proof of identity before information is released. Give name and social security number, purpose of payment or collection (travel, grant, etc.) and, if possible, the agency accounting classification.

Record access procedures:

Same as notification procedures. Requesters should also clearly specify the record contents being sought, and may include a request for an accounting of disclosures that have been made of their records, if any. (These access procedures are in accordance with HHS regulations (45 CFR 5b.5(a)(2)).)

Contesting record procedure:

Contact the official at the address specified under notification procedure above, and reasonably identify the record and specify the information being contested, the corrective action sought, and the reasons for requesting the correction, along with supporting information to show how the record is inaccurate, incomplete, untimely, or irrelevant.

Record source categories:

Travel vouchers submitted by the individual; grant, contract and loan award document; delinquent loan, grant and scholarship record; consultant invoice of services rendered; and application for travel advance.

Systems exempted from certain provisions of the act:

None.

Appendix 1—Location

Indian Health Service Area Offices (IHS)

Aberdeen Area Indian Health Service, Federal Building, 115 Fourth Avenue, Southeast, Aberdeen, SD 57401

Alaska Area Indian Health Service, 4141 Ambassador Drive, Anchorage, AK 99508-5928

Albuquerque Area Indian Health Service, 5300 Homestead Road, NE., Albuquerque, NM 87109-1311

Bemidji Area Indian Health Service, 522 Minnesota Avenue, NW., Room 119, Bemidji, MN 56601

Billings Area Indian Health Service, 2900 4th Avenue North, Billings, MT 59101

California Area Indian Health Service, 650 Capitol Mall, Suite 7-100, Sacramento, CA 95814

Nashville Area Indian Health Service, 711 Stewarts Ferry Pike, Nashville, TN 37214-2634

Navajo Area Indian Health Service, P.O. Box 9020, Window Rock, AZ 86515-9020

Oklahoma City Area Indian Health Service, Five Corporate Plaza, 3625 NW., 56th Street, Oklahoma City, OK 73112

Phoenix Area Indian Health Service, Two Renaissance Square, 40 North Central Avenue, Phoenix, AZ 85004-4424

Portland Area Indian Health Service, 1220 SW., Third Avenue, #476, Portland, OR 97204-2892

Tucson Area Indian Health Service, 7900 S.J. Stock Road, Tucson, AZ 85746-7012

Food and Drug Administration District Offices (FDA)

Food and Drug Administration, FDA, Atlanta District Office, 60 Eighth Street, NE., Atlanta, GA 30309

Food and Drug Administration, FDA, New England District Office, One Montvale Avenue, Stoneham, MA 02180

Food and Drug Administration, FDA, New Jersey District Office, 10 Waterview Boulevard, 3rd Floor, Parsippany, NJ 07054

Food and Drug Administration, FDA, Philadelphia District Office, Room 900, U.S. Customhouse, 2nd and Chestnut Streets, Philadelphia, PA 19106

Food and Drug Administration, FDA, Baltimore District Office, 6000 Metro Drive, Suite 101, Baltimore, MD 21215

Food and Drug Administration, FDA, San Juan District Office, 466 Fernandez Juncos Avenue, San Juan, PR 00901-3223

Food and Drug Administration, FDA, Chicago District Office, 550 W. Jackson Boulevard, Suite 1500 South, Chicago, IL 606601

Food and Drug Administration, FDA, Cincinnati District Office, Food and Drug Administration, FDA, 6751 Steger Drive, Cincinnati, OH 45237-3097

Food and Drug Administration, FDA, Minneapolis District Office, 212 3rd Avenue South, Minneapolis, MN 55401-2532

Food and Drug Administration, FDA, Dallas District Office, 4040 N. Central Expressway, Suite 300, Dallas, TX 75204

Food and Drug Administration, FDA, Southwest Import District, 4040 N. Central Expressway, Suit 300, Dallas, TX 75204

Food and Drug Administration, FDA, New Orleans District Office, 6600 Plaza Drive, Suite 400, New Orleans, LA 70127

Food and Drug Administration, FDA, Kansas City District Office, P.O. Box 15905, Lenexa, KS 66285-5905

Food and Drug Administration, FDA, Denver District Office, P.O. Box 25087, Denver, CO 80225-0087

Food and Drug Administration, FDA, Florida District Office, 555 Winderly Place, Suite 200, Maitland, FL 32751

Food and Drug Administration, FDA, San Francisco District Office, 1431 Harbor Bay Parkway, Alameda, CA 94502-7096

Food and Drug Administration, FDA, Los Angeles District Office, 19701 Fairchild, Irvine, CA 92612-2506

Food and Drug Administration, FDA, New York District Office, 158-15 Liberty Avenue, Jamaica, NY 11433-1034

Food and Drug Administration, FDA, Seattle District Office, 22201 23rd Avenue, SE., Bothell, WA 98021

Food and Drug Administration, FDA, Headquarters Office, 5600 Fishers Lane, Room 14-71, Rockville, MD 20857

Centers for Disease Control and Prevention, CDC—and—Agency for Toxic Substances and Disease Registry (ATSDR)

Financial Management Office, 12 Executive Park Drive, NE., (M/S D-04), Atlanta, GA 30329

Centers for Medicare & Medicaid Services

Centers for Medicare & Medicaid Services, 7500 Security Boulevard, Baltimore, MD 21244

National Institutes of Health (NIH)

National Institutes of Health, NIH, Building 1, Room 222, Rocky Mountain Laboratory, Hilton, MT 59840

National Institutes of Health, NIH, National Institute of Mental Health, National Institute of Mental Health (NIMH) Office of Communications, 6001 Executive Boulevard, Room 8184, MSC 9663, Bethesda, MD 20892-9663

National Institutes of Health, NIH, Frederick Cancer Research Facility, Fort Detrick Building, Room 427, Frederick, MD 21702-1201

National Institutes of Health, NIH, National Institutes of Environmental Health Sciences, Room B2-03, Building 101, Research Triangle Park, NC 27709

National Institutes for Health, NIH, National Institute on Drug Abuse, Addiction Research Center, Building C, Room 248, 4940 Eastern Avenue, Baltimore, MD 21224

National Institutes for Health, NIH, Headquarters Office, Operations Accounting Branch, Building 31, Room B1-B63, 9000 Rockville Pike, Bethesda, MD 20892-0134

Program Support Center (PSC)

Program Support Center, PSC, Division of Fiscal Operations, 5600 Fishers Lane, Room 16-05, Rockville, MD 20857

Individual records of the following HHS Operating Divisions may be obtained from the Program Support Center (PSC):

1. Administration for Children and Families (ACF)

2. Administration on Aging (AoA)

3. Agency for Health Care Policy and Research (AHCPR)

4. Health Resources and Services Administration (HRSA)

5. Indian Health Service (IHS)

6. Substance Abuse and Mental Health Services Administration (SAMHSA)

7. Office of the Secretary (OS) Substance Abuse and Mental Health Services Administration (SAMHSA)

In addition to the individual records maintained by the PSC, travel-related records for SAMHSA employees may also be obtained from the following SAMHSA program offices:

Office of the Administrator, Substance Abuse and Mental Health Services Administration, 1 Choke Cherry Road, Room 8-1054, Rockville, MD 20857

Office of Applied Studies, Substance Abuse and Mental Health Services Administration, 1 Choke Cherry Road, Room 7-1047, Rockville, MD 20857

Office of Program Services, Division of Administrative Services, Substance Abuse and Mental Health Services Administration, 1 Choke Cherry Road, Room 7-1073, Rockville, MD 20857

Center for Substance Abuse Prevention, Substance Abuse and Mental Health Services Administration, 1 Choke Cherry Road Room 4-1051, Rockville, MD 20857

Center for Substance Abuse Treatment, Substance Abuse and Mental Health Services Administration, 1 Choke Cherry Road, Room 5-1015, Rockville, MD 20857

Center for Mental Health Services, Substance Abuse and Mental Health Services Administration, 1 Choke Cherry Road, Room 6-1051, Rockville, MD 20857

[FR Doc. 05-13050 Filed 6-30-05; 8:45 am]

BILLING CODE 4150-24-P